LIBRARY OF CONGRESS

Copyright Office

37 CFR Parts 201, 202, and 204

[Docket No. RM 2000-5B]

General Provisions and Privacy Act; Technical Amendments

AGENCY: Copyright Office, Library of Congress.

ACTION: Final rule; technical amendments.

SUMMARY: This document makes non-substantive, technical amendments to Copyright Office regulations.

EFFECTIVE DATE: August 10, 2000.

FOR FURTHER INFORMATION CONTACT: Sandra L. Jones, Writer Editor, or Marilyn J. Kretsinger, Assistant General Counsel, Copyright GC/I&R, PO Box 70400, Southwest Station, Washington, DC 20024. Telephone: (202) 707-8380. Fax: (202) 707-8366.

SUPPLEMENTARY INFORMATION: The Copyright Office reviewed its regulations and, on June 28, 2000, published non-substantive, technical amendments that updated and made minor corrections to the agency's rules. The Office now makes additional clarifying technical amendments in 37 CFR part 201 and makes a correction in 37 CFR part 204 that was inadvertently overlooked in the June 28th document.

List of Subjects

37 CFR Part 201

Copyright.

37 CFR Part 202

Claims, Copyright.

37 CFR Part 204

Privacy.

Final Rule

Accordingly, 37 CFR parts 201, 202, and 204 are amended by making the following corrections and amendments:

PART 201—GENERAL PROVISIONS

1. The authority citation for Part 201 continues to read as follows:

Authority: 17 U.S.C. 702.

§ 201.5 [Amended]

2. Section 201.5(c)(1)(viii) is amended by removing “A certification.”.

§ 201.28 [Amended]

3. Section 201.28(c)(4) is amended by adding a “-” (hyphen) between “two” and “month”.

PART 202—REGISTRATION OF CLAIMS TO COPYRIGHT

4. The authority citation for Part 202 continues to read as follows:

Authority: 17 U.S.C. 408, 702.

§ 202.22 [Amended]

5. Section 202.22(c)(1) is amended by removing “title;” and adding “title” in its place.

PART 204—PRIVACY ACT: POLICIES AND PROCEDURES

6. The authority citation for Part 204 continues to read as follows:

Authority: 17 U.S.C. 702; 5 U.S.C. 552(a).

7. Section 204.8(a) is amended by revising the first sentence to read as follows:

§ 204.8 Appeal of refusal to correct or amend an individual's record.

(a) An individual who disagrees with a refusal of the Copyright Office to amend his or her record may request a review of the denial. * * *

* * * * *

Dated: August 2, 2000.
Marilyn J. Kretsinger,
Assistant General Counsel.

[FR Doc. 00-20082 Filed 8-9-00; 8:45 am]

BILLING CODE 1410-30-P